DEPARTMENT OF DEFENSE

Department of the Army; Corps of Engineers

Notice of Availability of the Draft Environmental Impact Statement for the Hudson-Raritan Estuary, Liberty State Park Ecosystem Restoration Study, Hudson County, NJ

AGENCY: Department of the Army, U.S. Army Corps of Engineers, DoD.

ACTION: Notice of availability.

SUMMARY: This announces the availability of the Draft Environmental Impact Statement (DEIS) which assesses the potential environmental impacts of the proposed ecosystem restoration at Liberty State Park, Hudson County, NJ. This DEIS has been prepared in accordance with the National Environmental Policy Act (NEPA), and U.S. Army Corps of Engineers (USACE) regulations for implementing NEPA.

DATES: The comment period for the DEIS will end 45 days after publication of the notice in the Federal Register by the U.S. Environmental Protection Agency. The end date falls within the first week of October 2005.

ADDRESSES: To obtain copies of the DEIS or submit comments, contact Mr. Robert Will, Environmental Coordinator, U.S. Army Corps of Engineers, New York District, Planning Division—Environmental Analysis Branch, 26 Federal Plaza, Room 2151, New York, NY 10278-0090.

FOR FURTHER INFORMATION CONTACT: Mr. Robert Will, Planning Division—Environmental Analysis Branch, at (917) 790-8635, or robert.j.will@usace.army.mil.

SUPPLEMENTARY INFORMATION: The purpose of this DEIS is to analyze significant issues and information relevant to environmental concerns regarding the proposed ecosystem restoration at Liberty State Park, Hudson County, NJ. The restoration of the 234 acre interior section, currently fenced off and inaccessible, will provide substantial benefit to all 1,121 acres of Liberty State Park by linking previously developed and restored, but isolated, components of the park into one cohesive whole. The study was conducted under the authority of a resolution adopted by the Committee on Transportation and Infrastructure of the U.S. House of Representatives on April 15, 1999, Docket 2596:

Resolved by the Committee on Transportation and Infrastructure of the United States House of Representatives, That, the Secretary of the Army is requested to review the reports of the Chief of Engineers on the New York and New Jersey Channels, published as House Document 133, 74th Congress, 1st Session; the New York and New Jersey Harbor Entrance Channels and Anchorage Areas, published as Senate Document 45, 84th Congress, 1st Session; and the New York Harbor, NY Anchorage Channel, published as House Document 18, 71st Congress, 2nd Session, as well as other related reports with a view to determining the feasibility of environmental restoration and protection relating to water resources and sediment quality within the New York and New Jersey Port District, including but not limited to creation, enhancement, and restoration of aquatic, wetland, and adjacent upland habitats.

The purpose of this DEIS is to analyze significant issues and information relevant to environmental concerns bearing on the proposed action or its anticipated impacts. The analysis indicates that short-term adverse environmental impacts, such as construction effects, would be balanced by long-term beneficial impacts. Monitoring for Cultural and Biological resources will be coordinated with the U.S. Fish and Wildlife Service, the National Marine Fisheries Service, and the New Jersey Historic Preservation Office. All activity associated with the project would be undertaken in a way to minimize adverse impacts to sensitive habitats and threatened and endangered species, and adjacent shorelines, as well as to minimize cumulative impacts.

The Notice of Intent (NOI) was filed in June of 2004. A Public Scoping Meeting was held in October 2002 and the results were collected in a Public Scoping Document. Results from public and agency scoping coordination are addressed in the DEIS. Copies of the DEIS are also available at the Jersey City Free Public Library, Main Library and Pavonia Branch Library.

Brenda S. Bowen,
Army Federal Register Liaison Officer.

[FR Doc. 05-16538 Filed 8-19-05; 8:45 am]

BILLING CODE 3710-06-M